NATIONAL AERONAUTICS AND SPACE ADMINISTRATION

48 CFR Part 1852

RIN 2700-AD16

Packaging, Handling, and Transportation

AGENCY: National Aeronautics and Space Administration (NASA).

ACTION: Final rule.

SUMMARY: This is a final rule to amend the NASA FAR Supplement (NFS) to delete the “alpha” and “date” associated with NASA's Procedural Requirements (NPR) 6000.1 referred to in the clause entitled Packaging, Handling, and Transportation (NOVEMBER 2004).

EFFECTIVE DATE: September 6, 2005.

FOR FURTHER INFORMATION CONTACT: Marilyn J. Seppi, NASA, Office of Procurement, Contract Management Division; (703) 553-2551; e-mail: Marilyn.Seppi-1@nasa.gov.

SUPPLEMENTARY INFORMATION:

A. Background

This final rule will delete references to the “alpha” and “date” associated with NASA Procedural Requirements (NPR) 6000.1 entitled “Requirements for Packaging, Handling, and Transportation for Aeronautical and Space Systems, Equipment and Associated Components.” Specifically, NFS clause 1852.211-70 will be revised to delete the “E” at the end of NPR 6000.1 and the date, namely “dated April 26, 1999”. This clause provides direction to the contractor that they must comply with the NPR. The NPR changes from time to time and so as to not have to revise clause 1852.211-70 every time the NPR changes it would be best to delete the “alpha” and “date” associated with the NPR. The revised clause will require the contractor to comply with the most recent version of the NPR which purpose is to establish a standard streamlined approach for packaging, handling, and transportation shipment activities to adequately maintain the reliability of NASA items and achieve their damage-free delivery to the place and time of ultimate use. In addition, this change will ensure consistency with the rest of the NFS because the date and alpha are not referenced when citing a particular NPR in other NFS clauses.

This is not a significant regulatory action and, therefore, was not subject to review under section 6(b) of Executive Order 12866, Regulatory Planning and Review, dated September 30, 1993. This rule is not a major rule under 5 U.S.C. 804.

B. Regulatory Flexibility Act

This final rule is not expected to have a significant economic impact on a substantial number of small entities with the meaning of the Regulatory Flexibility Act, 5 U.S.C. 601 et seq., because contractors are required to comply with this clause when packaging, handling, and transporting, and shipping on behalf of NASA to maintain reliability of NASA items and to achieve damage-free delivery to their time and place of ultimate use and therefore, changing the date of the NASA procedural requirements will have little or no impact on small businesses.

C. Paperwork Reduction Act

The Paperwork Reduction Act does not apply because this final rule does not impose any new recordkeeping or information collection requirements, or collection of information from offerors, contractors, or members of the public that require the approval of the Office of Management and Budget under 44 U.S.C. 3501 et seq.

List of Subjects in 48 CFR Part 1852

Government procurement.

Tom Luedtke,
Assistant Administrator for Procurement.

Accordingly, 48 CFR part 1852 is amended as follows:

PART 1852—SOLICITATION PROVISIONS AND CONTRACT CLAUSES

1. The authority citation for 48 CFR part 1852 continues to read as follows:

Authority: 42 U.S.C. 2473(c)(1).

2. In clause 1852.211-70, the date is revised to read “(SEPT 2005)”, and paragraph (a) is revised to read as follows:

1852.211-70 Packaging, Handling, and Transportation.

* * * * *

(a) The Contractor shall comply with NASA Procedural Requirements (NPR) 6000.1, “Requirements for Packaging, Handling, and Transportation for Aeronautical and Space Systems, Equipment, and Associated Components”, as may be supplemented by the statement of work or specifications of this contract, for all items designated as Class I, II, or III.

* * * * *

[FR Doc. 05-17591 Filed 9-2-05; 8:45 am]

BILLING CODE 7510-01-P